ENVIRONMENTAL PROTECTION AGENCY

[EPA-HQ-OLEM-2019-0558, FRL-20005-94-OMS]

Information Collection Request Submitted to OMB for Review and Approval; Comment Request; RCRA Subtitle C Reporting Instructions and Forms (Renewal)

AGENCY: Environmental Protection Agency (EPA).

ACTION: Notice.

SUMMARY: The Environmental Protection Agency (EPA) has submitted an information collection request (ICR), RCRA Subtitle C Reporting Instructions and Forms (EPA ICR Number 0976.19, OMB Control Number 2050-0024) to the Office of Management and Budget (OMB) for review and approval in accordance with the Paperwork Reduction Act. This is a proposed extension of the ICR, which is currently approved through May 30, 2020. Public comments were previously requested via the Federal Register on October 7, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 26, 2020.

ADDRESSES: Submit your comments to EPA, referencing Docket ID No. EPA-HQ-OLEM-2019-0558, online using www.regulations.gov (our preferred method), by email to rcra-docket@epa.gov, or by mail to: RCRA Docket, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Environmental Protection Agency, 1200 Pennsylvania Ave. NW, Washington, DC 20460; telephone number: 703-308-5477; fax number: 703-308-8433; email address: vyas.peggy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 3002 of RCRA requires hazardous waste generators to report, at least every 2 years, the quantity and nature of hazardous waste generated and managed during that reporting cycle. Section 3004 requires treatment, storage, and disposal facilities (TSDFs) to report any waste received. This is mandatory reporting. The information is collected via the Hazardous Waste Report (EPA Form 8700-13 A/B). This form is also known as the “Biennial Report” form.

Section 3010 of RCRA requires any person who generates or transports regulated waste or who owns or operates a facility for the treatment, storage, or disposal of regulated waste to notify the EPA of their activities, including the location and general description of activities and the regulated wastes handled. The entity is then issued an EPA Identification number. Entities use the Notification Form (EPA Form 8700-12) to notify EPA of their hazardous waste activities. This form is also known as the “Notification” form.

Section 3005 of RCRA requires TSDFs to obtain a permit. To obtain the permit, the TSDF must submit an application describing the facility's operation. The RCRA Hazardous Waste Part A Permit Application form (EPA Form 8700-23) defines the processes to be used for treatment, storage, and disposal of hazardous wastes; the design capacity of such processes; and the specific hazardous wastes to be handled at the facility. This form is also known as the “Part A” form.

Form Numbers: EPA form numbers 8700-12, 8700-13A/B, and 8700-23.

Respondents/affected entities: Business or other for-profit as well as State, Local, or Tribal governments.

Respondent's obligation to respond: Mandatory (RCRA Sections 3002, 3304, 3005, 3010).

Estimated number of respondents: 3,192,310 per year.

Frequency of response: Biennially and on occasion.

Total estimated burden: 809,382 hours per year. Burden is defined at 5 CFR 1320.03(b).

Total estimated cost: $35,658,164 (per year), includes $342,016 annualized capital or operation & maintenance costs.

Changes in the Estimates: There is an increase of 161,956 hours in the total estimated respondent burden compared with the ICR currently approved by OMB. This increase is due to an increase in the universe of facilities subject to requirements.

Courtney Kerwin,
Director, Regulatory Support Division.

[FR Doc. 2020-11357 Filed 5-26-20; 8:45 am]

BILLING CODE 6560-50-P